DEPARTMENT OF AGRICULTURE

Forest Service

Notice of Settlement Pursuant to CERCLA; Libby Asbestos Site, Lincoln County, MT

AGENCY: Forest Service, USDA.

ACTION: Notice.

SUMMARY: In accordance with the Comprehensive Environmental Response, Compensation, and Liability Act, as amended (CERCLA), notice is hereby given of an administrative settlement with W.R. Grace & Co. Conn. and the Kootenai Development Company (Grace) for the recovery of past response costs concerning Operable Unit 3 (OU3) of the Libby Asbestos Site, Lincoln County, Montana (the Site).

DATES: Comments must be submitted on or before May 17, 2018.

ADDRESSES: The proposed settlement is available for public inspection at the Libby Ranger District, Canoe Gulch Ranger Station, 12557 MT Hwy. 37, Libby, MT 59923, and at the offices of the USDA Forest Service, Northern Region, 26 Fort Missoula Road, Missoula, MT 59804. A copy of the proposed settlement may be obtained from Jeff Johnson at (208) 765-7313, Pamela Baltz (406) 283-7597, or from Babak Rastgoufard, USDA Office of the General Counsel at (406) 329-3061. Comments should reference the Libby Asbestos Site OU3, and should be addressed to Babak Rastgoufard, USDA Office of the General Counsel, 26 Fort Missoula Road, Missoula, MT 59804.

FOR FURTHER INFORMATION CONTACT: For technical information, contact Jeff Johnson, USDA Forest Service Northern Region, 3815 N Schreiber Way, Coeur d'Alene, ID 83815; phone (208) 765-7313 or Pamela Baltz, Kootenai National Forest, 12557 Hwy. 37, Libby, MT 59923; phone (406) 283-7597. For legal information, contact Babak Rastgoufard, USDA Office of the General Counsel, 26 Fort Missoula Road, Missoula, MT 59804; phone (406) 329-3061.

SUPPLEMENTARY INFORMATION: Pursuant to section 122(h)(1) of CERCLA, 42 U.S.C. 9622(h)(1), the settlement agreement resolves, in part, response costs incurred by the Forest Service at OU3. Under the settlement, Grace has agreed to pay the USDA Forest Service, Northern Region, $219,308 to reimburse it for certain response actions the USDA Forest Service, Northern Region, has undertaken at the Site. The settlement includes a covenant not to sue Grace for certain past costs pursuant to sections 106 and 107(a) of CERCLA, 42 U.S.C. 9606 and 9607(a), with regard to the Site.

For thirty (30) days following the date of publication of this notice, the United States will receive written comments relating to the settlement. The United States will consider all comments received and may modify or withdraw its consent to the settlement if comments received disclose facts or considerations which indicate that the settlement is inappropriate, improper, or inadequate. The United States response to any comments received will be available for public inspection at the Libby Ranger District, Canoe Gulch Ranger Station, 12557 MT Hwy. 37, Libby, MT 59923, and at the offices of the USDA Forest Service, Northern Region, 26 Fort Missoula Road, Missoula, MT 59804.

Dated: March 14, 2018.
Chris French,
Associate Deputy Chief, National Forest System.

[FR Doc. 2018-07933 Filed 4-16-18; 8:45 am]

BILLING CODE 3411-15-P